CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled School Turnaround AmeriCorps Grantee Progress Report for review and approval in accordance with the Paperwork Reduction Act of 1995, Public Law 104-13, (44 U.S.C. Chapter 35). Copies of this ICR, with applicable supporting documentation, may be obtained by calling the Corporation for National and Community Service, Carla Ganiel, at 202-606-6773 or email to cganiel@cns.gov. Individuals who use a telecommunications device for the deaf (TTY-TDD) may call 800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on October 31, 2013. This comment period ended December 30, 2013. No public comments were received from this Notice.

Description: CNCS is seeking approval of School Turnaround AmeriCorps Grantee Progress Report, which is used by School Turnaround AmeriCorps grantees to provide information for CNCS staff to monitor grantee progress and to respond to requests from Congress and other stakeholders.

Type of Review: New.

Agency: Corporation for National and Community Service.

Title: School Turnaround AmeriCorps Grantee Progress Report.

OMB Number: TBD.

Agency Number: None.

Affected Public: School Turnaround AmeriCorps Grantees.

Total Respondents: 50.

Frequency: Biannual with one additional final report required at closeout of the grant.

Average Time per Response: 9 hours per submission.

Estimated Total Burden Hours: 900.

Total Burden Cost (capital/startup): None.

Total Burden Cost (operating/maintenance): None.

Dated: January 27, 2014.
William Basl,
Director, AmeriCorps State and National.

[FR Doc. 2014-02099 Filed 1-31-14; 8:45 am]

BILLING CODE 6050-28-P